DEPARTMENT OF AGRICULTURE

Animal and Plant Health Inspection Service

7 CFR Part 301

[Docket No. APHIS-2005-0116]

Mediterranean Fruit Fly; Remove Portions of Los Angeles, San Bernardino, and Santa Clara Counties, CA, From the List of Quarantined Areas

AGENCY: Animal and Plant Health Inspection Service, USDA.

ACTION: Affirmation of interim rule as final rule.

SUMMARY: We are adopting as a final rule, without change, an interim rule that amended the Mediterranean fruit fly regulations by removing portions of Los Angeles, San Bernardino, and Santa Clara Counties, CA, from the list of quarantined areas and by removing restrictions on the interstate movement of regulated articles from those areas. The interim rule was necessary to relieve restrictions that were no longer needed to prevent the spread of the Mediterranean fruit fly into noninfested areas of the United States.

DATES: Effective Date: Effective on January 10, 2007, we are adopting as a final rule the interim rule published at 71 FR 53963-53964 on September 13, 2006.

FOR FURTHER INFORMATION CONTACT: Mr. Wayne D. Burnett, National Fruit Fly Program Manager, PPQ, APHIS, 4700 River Road, Unit 134, Riverdale, MD 20737-1236; (301) 734-4387.

SUPPLEMENTARY INFORMATION:

Background

In an interim rule ¹ effective on February 7, 2006, and published in the Federal Register on February 13, 2006 (71 FR 7393-7395, Docket No. APHIS-2005-0116), we amended the Mediterranean fruit fly regulations contained in 7 CFR 301.78 through 301.78-10 (referred to below as the regulations) by adding portions of Los Angeles, San Bernardino, and Santa Clara Counties, CA, to the list of quarantined areas in § 301.78-3(c) and restricting the interstate movement of regulated articles from those areas. The February 2006 interim rule was necessary to prevent the spread of Mediterranean fruit fly into noninfested areas of the United States. Comments on the interim rule were required to be received on or before April 14, 2006. We did not receive any comments.

¹ To view the interim rule, go to http://www.regulations.gov, click on the “Advanced Search” tab, and select “Docket Search.” In the Docket ID field, enter APHIS-2005-0116, then click “Submit.” Clicking on the Docket ID link in the search results page will produce a list of all documents in the docket.

In a second interim rule ² effective September 7, 2006, and published in the Federal Register on September 13, 2006 (71 FR 53963-53964, Docket No. APHIS-2005-0116), we amended the regulations by removing those same portions of Los Angeles, San Bernardino, and Santa Clara Counties, CA, from the list of quarantined areas and removing restrictions on the interstate movement of regulated articles from those areas. We took that action based on trapping surveys conducted by inspectors of California State and county agencies that showed that the Mediterranean fruit fly had been eradicated from the quarantined portions of Los Angeles, San Bernardino, and Santa Clara Counties, CA. As a result of that action, there are no longer any areas in the continental United States quarantined for the Mediterranean fruit fly.

² See footnote 1.

Comments on the interim rule were required to be received on or before November 13, 2006. We did not receive any comments. Therefore, for the reasons given in the interim rule, we are adopting the interim rule as a final rule.

This action also affirms the information contained in the interim rules concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 71 FR 53963-53964 on September 13, 2006.

Done in Washington, DC, this 3rd day of January 2007.
Kevin Shea,
Acting Administrator, Animal and Plant Health Inspection Service.

[FR Doc. E7-110 Filed 1-9-07; 8:45 am]

BILLING CODE 3410-34-P